ENVIRONMENTAL PROTECTION AGENCY

40 CFR Part 52

[EPA-R10-OAR-2017-0554; FRL-9970-27—Region 10]

Air Plan Approval; AK: Updates to Materials Incorporated by Reference

AGENCY: Environmental Protection Agency (EPA).

ACTION: Final rule; administrative change.

SUMMARY: The Environmental Protection Agency (EPA) is updating the materials that are incorporated by reference (IBR) into the Alaska State Implementation Plan (SIP). The regulations affected by this format change have all been previously submitted by Alaska and approved by the EPA. In this action, the EPA is also notifying the public of corrections to typographical errors, and minor formatting changes to the IBR tables. This update affects the SIP materials that are available for public inspection at the National Archives and Records Administration (NARA) and the EPA Regional Office.

DATES: This rule is effective on December 8, 2017.

ADDRESSES: SIP materials which are incorporated by reference into 40 CFR part 52 are available for inspection at the following locations: Environmental Protection Agency, Region 10 Office of Air and Waste (OAW-150), 1200 Sixth Avenue, Seattle, WA 98101, or the National Archives and Records Administration (NARA). For information on the availability of this material at NARA, call (202) 741-6030, or go to: https://www.archives.gov/federal-register/cfr/ibr-locations.html.

FOR FURTHER INFORMATION CONTACT: Kristin Hall, EPA Region 10, (206) 553-6357, hall.kristin@epa.gov.

SUPPLEMENTARY INFORMATION:

I. Background

The SIP is a living document that a state revises as necessary to address its unique air pollution problems. Therefore, from time to time, the EPA must take action on SIP revisions containing new and/or revised regulations, approving and incorporating them into the SIP. On May 22, 1997, the EPA revised the procedures for incorporating by reference federally-approved SIPs, as a result of consultations between the EPA and the Office of the Federal Register (OFR) (62 FR 27968). The description of the revised SIP document, IBR procedures and “Identification of plan” format is discussed in further detail in the May 22, 1997, Federal Register document. On April 10, 2014, the EPA published a Federal Register beginning the new IBR procedure for Alaska (79 FR 19820). Since then, the EPA has approved and incorporated by reference the following provisions of Alaska Administrative Code (18 AAC 50), Alaska Statutes (AS), and Fairbanks North Star Borough (FNSB) Code into the Alaska SIP.

A. Added Regulations

• 18 AAC 50.007 Local Government Powers or Obligations Under a Local Air Quality Control Program

• 18 AAC 50.076 Solid Fuel-fired Heating Device Fuel Requirements; Standards for Commercial Wood-sellers

• 18 AAC 50.077 Standards for Wood-fired Heating Devices

• 18 AAC 50.246 Air Quality Episodes and Advisories for PM2.5

• 18 AAC 50.400 Permit Administration Fees

• 18 AAC 50.510 Minor Permit: 18 AAC 50.510 Minor Permit—Title V Permit Interface

• 18 AAC 50.712 Agency Responsibilities

• FNSB 21.28.010 Definitions

• FNSB 21.28.020 Borough listed devices

• FNSB 21.28.030 Prohibited acts

• FNSB 21.28.050 Forecasting exceedances and restrictions in the air quality control zone during an alert

• FNSB 21.28.060 No other adequate source of heat determination

B. Revised Regulations

• 18 AAC 50.010 Ambient Air Quality Standards

• 18 AAC 50.015 Air Quality Designations, Classifications, and Control Regions

• 18 AAC 50.020 Baseline Dates and Maximum Allowable Increases

• 18 AAC 50.025 Visibility and Other Special Protection Areas

• 18 AAC 50.035 Documents, Procedures and Methods Adopted by Reference

• 18 AAC 50.040 Federal Standards Adopted by Reference

• 18 AAC 50.050 Incinerator Emission Standards

• 18 AAC 50.055 Industrial Processes and Fuel-Burning Equipment

• 18 AAC 50.065 Open Burning

• 18 AAC 50.215 Ambient Air Quality Analysis Methods

• 18 AAC 50.220 Enforceable Test Methods

• 18 AAC 50.230 Owner-Requested Limits

• 18 AAC 50.245 Air Quality Episodes and Advisories for Pollutants Other Than PM2.5

• 18 AAC 50.260 Guidelines for Best Available Retrofit Technology Under the Regional Haze Rule

• 18 AAC 50.302 Construction Permits

• 18 AAC 50.306 Prevention of Significant Deterioration (PSD) Permits

• 18 AAC 50.345 Construction, Minor and Operating Permits: Standard Permit Conditions

• 18 AAC 50.400 Permit Administration Fees

• 18 AAC 50.502 Minor Permits for Air Quality Protection

• 18 AAC 50.508 Minor Permits Requested by the Owner or Operator

• 18 AAC 50.510 Minor Permit: 18 AAC 50.510 Minor Permit—Title V Permit Interface

• 18 AAC 50.540 Minor Permit: Application

• 18 AAC 50.542 Minor Permit: Review and Issuance

• 18 AAC 50.544 Minor Permit: Content

• 18 AAC 50.546 Minor Permit: Revisions

• 18 AAC 50.700 Purpose

• 18 AAC 50.705 Applicability

• 18 AAC 50.715 Interagency Consultation Procedures

• 18 AAC 50.720 Public Involvement

• 18 AAC 50.740 Written Commitments

• 18 AAC 50.745 Resolving Conflicts

• 18 AAC 50.750 Exempt Projects

• 18 AAC 50.990 Definitions

• AS 46.14.550 Responsibilities of Owner and Operator

• AS 46.14.990 Definitions

C. Removed Regulations

• 18 AAC 50.060 Pulp Mills

• 18 AAC 50.710 Transportation Conformity: Incorporation by Reference of Federal Regulations

• 18 AAC 50.725 General Conformity: Incorporation by Reference of Federal Regulations

• 18 AAC 50.735 General Conformity: Frequency of Conformity Determinations

• AS 46.14.510 Motor Vehicle Pollution

II. EPA Action

In this action, the EPA is announcing the update to the IBR material as of September 8, 2017. The EPA is correcting minor typographical errors and rearranging and republishing the contents of subsection 52.70(c). The EPA is also rearranging and republishing the contents of subsection 52.70(e) to align the contents with the outline of the Alaska state plan volumes and sections. We note we are correcting entries 18 AAC 50.075 and 18 AAC 50.077 in subsection 52.70(c) to accurately reflect the portions of these rule sections that were withdrawn by the State and not approved into the SIP (September 8, 2017, 82 FR 42457). We are also correcting the table in subsection 52.70(e) to reflect our approval of the appendices to the Regional Haze Plan at entry III.III.K. (February 14, 2013, 78 FR 10546) and our most recent approval of the State Air Statutes at entry III.II.A. (September 19, 2014, 79 FR 56268).

The EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in federal and approved state programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Incorporation by Reference

In this rule, the EPA is finalizing regulatory text that includes incorporation by reference. In accordance with requirements of 1 CFR 51.5, the EPA is finalizing the incorporation by reference of previously EPA-approved regulations promulgated by Alaska and federally-effective prior to September 8, 2017. The EPA has made, and will continue to make, these materials generally available through www.regulations.gov and/or at the EPA Region 10 Office (please contact the person identified in the FOR FURTHER INFORMATION CONTACT section of this preamble for more information).

IV. Statutory and Executive Orders Review

A. General Requirements

Under the Clean Air Act (CAA), the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications as specified by Executive Order 13175 (65 FR 67249, November 9, 2000), nor will it impose substantial direct costs on tribal governments or preempt tribal law.

In this rule, the EPA is finalizing regulatory text that includes incorporation by reference. In accordance with requirements of 1 CFR 51.5, the EPA is finalizing the incorporation by reference of the Alaska regulations described in the amendments to 40 CFR part 52 set forth below. The EPA has made, and will continue to make, these documents generally available electronically through www.regulations.gov and/or in hard copy at the appropriate EPA office (see the ADDRESSES section of this preamble for more information).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. This rule is not a “major rule” as defined by 5 U.S.C. 804(2).

C. Petitions for Judicial Review

The EPA has also determined that the provisions of section 307(b)(1) of the CAA pertaining to petitions for judicial review are not applicable to this action. Prior EPA rulemaking actions for each individual component of the Alaska SIP compilations had previously afforded interested parties the opportunity to file a petition for judicial review in the United States Court of Appeals for the appropriate circuit within 60 days of such rulemaking action. Thus, the EPA sees no need in this action to reopen the 60-day period for filing such petitions for judicial review for this “Identification of plan” update action for Alaska.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: October 19, 2017.
Michelle L. Pirzadeh,
Acting Regional Administrator, Region 10.

Part 52 of chapter I, title 40 of the Code of Federal Regulations, is amended as follows:

PART 52—APPROVAL AND PROMULGATION OF IMPLEMENTATION PLANS

1. The authority citation for part 52 continues to read as follows:

Authority: 42 U.S.C. 7401 et seq.

Subpart C—Alaska

2. In § 52.70, revise paragraphs (b) through (e) to read as follows:

§ 52.70 Identification of plan.

* * * * *

(b) Incorporation by reference. (1) Material listed in paragraphs (c) and (d) of this section with an EPA approval date prior to September 8, 2017, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after September 8, 2017, will be incorporated by reference in the next update to the SIP compilation.

(2) The EPA Region 10 certifies that the rules and regulations provided by the EPA in the SIP compilation at the addresses in paragraph (b)(3) of this section are an exact duplicate of the officially promulgated State rules/regulations which have been approved as part of the State Implementation Plan as of September 8, 2017.

(3) Copies of the materials incorporated by reference may be inspected at the EPA Region 10 Office at 1200 Sixth Avenue, Seattle WA, 98101; or the National Archives and Records Administration (NARA). For information on the availability of this material at NARA, call (202) 741-6030, or go to: https://www.archives.gov/federal-register/cfr/ibr-locations.html.

(c) EPA approved regulations.

EPA-Approved Alaska Regulations and Statutes
State citation | Title/subject | State effective date | EPA approval date | Explanations
Alaska Administrative Code Title 18 Environmental Conservation, Chapter 50—Air Quality Control (18 AAC 50)
18 AAC 50—Article 1. Ambient Air Quality Management
18 AAC 50.005 | Purpose and Applicability of Chapter | 10/1/2004 | 8/14/2007, 72 FR 45378 |
18 AAC 50.007 | Local Government Powers or Obligations Under a Local Air Quality Control Program | 2/28/2015 | 9/8/2017, 82 FR 42457 |
18 AAC 50.010 | Ambient Air Quality Standards | 8/20/2016 | 8/28/2017, 82 FR 40712 | Except (8).
18 AAC 50.015 | Air Quality Designations, Classifications, and Control Regions | 4/17/2015 | 5/19/2016, 81 FR 31511 |
18 AAC 50.020 | Baseline Dates and Maximum Allowable Increases | 8/20/2016 | 8/28/2017, 82 FR 40712 |
18 AAC 50.025 | Visibility and Other Special Protection Areas | 11/26/2016 | 9/8/2017, 82 FR 42457 |
18 AAC 50.035 | Documents, Procedures and Methods Adopted by Reference | 8/20/2016 | 8/28/2017, 82 FR 40712 | Except (a)(6) and (b)(4).
18 AAC 50.040 | Federal Standards Adopted by Reference | 8/20/2016; 11/9/2014 | 8/28/2017, 82 FR 40712; 1/7/2015, 80 FR 832 | Except (a), (b), (c), (d), (e), (g), (j) and (k).
18 AAC 50.045 | Prohibitions | 10/1/2004 | 8/14/2007, 72 FR 45378 |
18 AAC 50.050 | Incinerator Emission Standards | 7/25/2008 | 9/19/2014, 79 FR 56268 |
18 AAC 50.055 | Industrial Processes and Fuel-Burning Equipment | 8/20/2016 | 8/28/2017, 82 FR 40712 | Except (d)(2)(B).
18 AAC 50.065 | Open Burning | 3/2/2016 | 9/8/2017, 82 FR 42457 |
18 AAC 50.070 | Marine Vessel Visible Emission Standards | 6/21/1998 | 8/14/2007, 72 FR 45378 |
18 AAC 50.075 | Solid Fuel-Fired Heating Device Visible Emission Standards | 11/26/2016 | 9/8/2017, 82 FR 42457 | Except (d)(2).
18 AAC 50.076 | Solid Fuel-Fired Heating Device Fuel Requirements; Registration of Commercial Wood Sellers | 11/26/2016 | 9/8/2017, 82 FR 42457 | Except (g)(11).
18 AAC 50.077 | Standards for Wood-Fired Heating Devices | 11/26/2016 | 9/8/2017, 82 FR 42457 | Except (h).
18 AAC 50.080 | Ice Fog Standards | 1/18/1997 | 8/14/2007, 72 FR 45378 |
18 AAC 50.100 | Nonroad Engines | 10/1/2004 | 8/14/2007, 72 FR 45378 |
18 AAC 50.110 | Air Pollution Prohibited | 5/26/1972 | 5/31/1972, 37 FR 10842 |
18 AAC 50—Article 2. Program Administration
18 AAC 50.200 | Information Requests | 10/1/2004 | 8/14/2007, 72 FR 45378 |
18 AAC 50.201 | Ambient Air Quality Investigation | 10/1/2004 | 8/14/2007, 72 FR 45378 |
18 AAC 50.205 | Certification | 10/1/2004 | 8/14/2007, 72 FR 45378 |
18 AAC 50.215 | Ambient Air Quality Analysis Methods | 8/20/2016 | 8/28/2017, 82 FR 40712 | Except (a)(4).
18 AAC 50.220 | Enforceable Test Methods | 9/14/2012 | 9/19/2014, 79 FR 56268 | Except (c)(1)(A), (B), (C), and (c)(2).
18 AAC 50.225 | Owner-Requested Limits | 10/6/2013 | 5/27/2015, 80 FR 30161 |
18 AAC 50.230 | Preapproved Emission Limits | 9/26/2015; 1/29/2005 | 11/25/2016, 81 FR 85160; 8/14/2007, 72 FR 45378 | Except (d).
18 AAC 50.240 | Excess Emissions | 1/18/1997 | 11/18/1998, 63 FR 63983 |
18 AAC 50.245 | Air Quality Episodes and Advisories for Air Pollutants Other than PM2.5 | 2/28/2015 | 9/8/2017, 82 FR 42457 |
18 AAC 50.246 | Air Quality Episodes and Advisories for PM2.5 | 2/28/2015 | 9/8/2017, 82 FR 42457 |
18 AAC 50.250 | Procedures and Criteria for Revising Air Quality Classifications | 10/1/2004 | 8/14/2007, 72 FR 45378 |
18 AAC 50.260 | Guidelines for Best Available Retrofit Technology under the Regional Haze Rule | 9/26/2015; 10/6/2013 | 11/25/2016, 81 FR 85160; 5/27/2015, 80 FR 30161 |
18 AAC 50—Article 3. Major Stationary Source Permits
18 AAC 50.301 | Permit Continuity | 10/1/2004 | 8/14/2007, 72 FR 45378 |
18 AAC 50.302 | Construction Permits | 9/14/2012 | 9/19/2014, 79 FR 56268 | Except (a)(3).
18 AAC 50.306 | Prevention of Significant Deterioration (PSD) Permits | 1/4/2013 | 9/19/2014, 79 FR 56268 |
18 AAC 50.311 | Nonattainment Area Major Stationary Source Permits | 10/1/2004 | 8/14/2007, 72 FR 45378 |
18 AAC 50.345 | Construction, Minor and Operating Permits: Standard Permit Conditions | 8/20/2016 | 8/28/2017, 82 FR 40712 | Except (b), (c)(3), and (l).
18 AAC 50—Article 4. User Fees
18 AAC 50.400 | Permit Administration Fees | 9/26/2015 | 11/25/2016, 81 FR 85160 | Except (a), (b), (c), and (i).
18 AAC 50—Article 5. Minor Permits
18 AAC 50.502 | Minor Permits for Air Quality Protection | 8/20/2016 | 8/28/2017, 82 FR 40712 |
18 AAC 50.508 | Minor Permits Requested by the Owner or Operator | 12/9/2010 | 9/19/2014, 79 FR 56268 |
18 AAC 50.510 | Minor Permit—Title V Permit Interface | 12/9/2010 | 9/19/2014, 79 FR 56268 |
18 AAC 50.540 | Minor Permit: Application | 8/20/2016 | 8/28/2017, 82 FR 40712 |
18 AAC 50.542 | Minor Permit: Review and Issuance | 8/20/2016 | 8/28/2017, 82 FR 40712 | Except (b)(2).
18 AAC 50.544 | Minor Permits: Content | 12/9/2010 | 9/19/2014, 79 FR 56268 |
18 AAC 50.546 | Minor Permits: Revisions | 7/15/2008 | 9/19/2014, 79 FR 56268 | Except (b).
18 AAC 50.560 | General Minor Permits | 10/1/2004 | 8/14/2007, 72 FR 45378 |
18 AAC 50—Article 7. Transportation Conformity
18 AAC 50.700 | Purpose | 4/17/2015 | 9/8/2015; 80 FR 53735 |
18 AAC 50.705 | Applicability | 4/17/2015 | 9/8/2015; 80 FR 53735 |
18 AAC 50.712 | Agency Responsibilities | 4/17/2015 | 9/8/2015; 80 FR 53735 |
18 AAC 50.715 | Interagency Consultation Procedures | 3/2/2016 | 8/28/2017, 82 FR 40712 |
18 AAC 50.720 | Public Involvement | 3/2/2016 | 8/28/2017, 82 FR 40712 |
18 AAC 50.740 | Written Comments | 4/17/2015 | 9/8/2015, 80 FR 53735 |
18 AAC 50.745 | Resolving Conflicts | 4/17/2015 | 9/8/2015, 80 FR 53735 |
18 AAC 50.750 | Exempt Projects | 4/17/2015 | 9/8/2015, 80 FR 53735 |
18 AAC 50—Article 9. General Provisions
18 AAC 50.900 | Small Business Assistance Program | 10/1/2004 | 8/14/2007, 72 FR 45378 |
18 AAC 50.990 | Definitions | 3/2/2016 | 9/8/2017, 82 FR 42457 |
Alaska Administrative Code Title 18 Environmental Conservation, Chapter 52—Emissions Inspection and Maintenance Requirements (18 AAC 52)
18 AAC 52—Article 1. Emissions Inspection and Maintenance Requirements
18 AAC 52.005 | Applicability and General Requirements | 5/17/2008 | 3/22/2010, 75 FR 13436 |
18 AAC 52.007 | Suspension and Reestablishment of I/M Requirements | 5/17/2008 | 3/22/2010, 75 FR 13436 |
18 AAC 52.010 | I/M Program Administration Office | 2/18/2006 | 3/22/2010, 75 FR 13436 |
18 AAC 52.015 | Motor Vehicle Maintenance Requirements | 2/18/2006 | 3/22/2010, 75 FR 13436 |
18 AAC 52.020 | Certificate of Inspection Requirements | 2/18/2006 | 3/22/2010, 75 FR 13436 |
18 AAC 52.025 | Visual Identification of Certificate of Inspection, Waivers, and Exempt Vehicles | 2/18/2006 | 3/22/2010, 75 FR 13436 |
18 AAC 52.030 | Department-Administered I/M Program | 2/1/1994 | 4/5/1995, 60 FR 17232 |
18 AAC 52.035 | I/M Program Administered by an Implementing Agency | 3/27/2002 | 3/22/2010, 75 FR 13436 |
18 AAC 52.037 | Reporting Requirements for an I/M Program Administered by an Implementing Agency | 2/18/2006 | 3/22/2010, 75 FR 13436 |
18 AAC 52.040 | Centralized Inspection Program | 2/1/1994 | 4/5/1995, 60 FR 17232 |
18 AAC 52.045 | Decentralized Inspection Program | 2/1/1994 | 4/5/1995, 60 FR 17232 |
18 AAC 52.050 | Emissions Standards | 3/27/2002 | 3/22/2010, 75 FR 13436 |
18 AAC 52.055 | Alternative Requirements, Standards and Test Procedures | 1/1/2000 | 1/8/2002, 67 FR 822 |
18 AAC 52.060 | Waivers | 5/17/2008 | 3/22/2010, 75 FR 13436 |
18 AAC 52.065 | Emissions-Related Repair Cost Minimum | 1/1/2000 | 1/8/2002, 67 FR 822 |
18 AAC 52.070 | Referee Facility | 3/27/2002 | 3/22/2010, 75 FR 13436 |
18 AAC 52.075 | Kit Cars and Custom-Manufactured Vehicles | 2/1/1994 | 4/5/1995, 60 FR 17232 |
18 AAC 52.080 | Grey Market Vehicles | 3/27/2002 | 3/22/2010, 75 FR 13436 |
18 AAC 52.085 | Vehicle Modifications | 2/18/2006 | 3/22/2010, 75 FR 13436 |
18 AAC 52.090 | Repair of Nonconforming Vehicles | 1/1/1998 | 12/29/1999, 64 FR 72940 |
18 AAC 52.095 | Minimum Certification Requirements | 1/1/1998 | 12/29/1999, 64 FR 72940 |
18 AAC 52.100 | Enforcement Procedures for Violations by Motorists | 12/14/2006 | 3/22/2010, 75 FR 13436 |
18 AAC 52.105 | Enforcement Procedures for Violations by Certified Mechanics or Stations | 1/1/2000 | 1/8/2002, 67 FR 822 |
18 AAC 52—Article 4. Certification Requirements
18 AAC 52.400 | Mechanic Certification | 1/1/1998 | 12/29/1999, 64 FR 72940 |
18 AAC 52.405 | Certified Mechanic Examinations | 3/27/2002 | 3/22/2010, 75 FR 13436 |
18 AAC 52.410 | Training Course Certification | 2/18/2006 | 3/22/2010, 75 FR 13436 |
18 AAC 52.415 | I/M Station Certification | 1/1/2000 | 1/8/2002, 67 FR 822 |
18 AAC 52.420 | Equipment Certification | 1/1/2000 | 1/8/2002, 67 FR 822 |
18 AAC 52.425 | Renewal of Certification | 1/1/1998 | 12/29/1999, 64 FR 72940 |
18 AAC 52.430 | Duty to Report Change in Status | 2/1/1994 | 4/5/1995, 60 FR 17232 |
18 AAC 52.440 | Monitoring of Certified Mechanics and Stations | 1/1/2000 | 1/8/2002, 67 FR 822 |
18 AAC 52.445 | Suspension or Revocation of Certification | 2/1/1994 | 4/5/1995, 60 FR 17232 |
18 AAC 52—Article 5. Certified Station Requirements
18 AAC 52.500 | General Operating Requirements | 1/1/2000 | 1/8/2002, 67 FR 822 |
18 AAC 52.505 | Display of Certified Station Sign | 2/1/1994 | 4/5/1995, 60 FR 17232 |
18 AAC 52.510 | Display of Certificates | 2/18/2006 | 3/22/2010, 75 FR 13436 |
18 AAC 52.515 | Inspection Charges | 2/18/2006 | 3/22/2010, 75 FR 13436 |
18 AAC 52.520 | Required Tools and Equipment | 2/18/2006 | 3/22/2010, 75 FR 13436 |
18 AAC 52.525 | Remote Station Operation | 1/1/2000 | 1/8/2002, 67 FR 822 |
18 AAC 52.527 | Prescreening Prohibited | 1/1/2000 | 1/8/2002, 67 FR 822 |
18 AAC 52.530 | Preliminary Inspection | 1/1/2000 | 1/8/2002, 67 FR 822 |
18 AAC 52.535 | Test Abort Conditions | 3/27/2002 | 3/22/2010, 75 FR 13436 |
18 AAC 52.540 | Official I/M Testing | 3/27/2002 | 3/22/2010, 75 FR 13436 |
18 AAC 52.545 | Parts on Order | 1/1/1998 | 12/29/1999, 64 FR 72940 |
18 AAC 52.546 | Unavailable Parts | 1/1/1998 | 12/29/1999, 64 FR 72940 |
18 AAC 52.550 | Recordkeeping Requirements | 2/1/1994 | 4/5/1995, 60 FR 17232 |
18 AAC 52—Article 9. General Provisions
18 AAC 52.990 | Definitions | 2/18/2006 | 3/22/2010, 75 FR 13436 |
Alaska Administrative Code Title 18 Environmental Conservation, Chapter 53—Fuel Requirements for Motor Vehicles (18 AAC 53)
18 AAC 53—Article 1. Oxygenated Gasoline Requirements
18 AAC 53.005 | Purpose and Applicability; General Requirements | 10/31/1997 | 12/29/1999, 64 FR 72940 |
18 AAC 53.007 | Dispenser Labeling | 10/31/1997 | 12/29/1999, 64 FR 72940 |
18 AAC 53.010 | Control Periods and Control Areas | 2/20/2004 | 6/23/2004, 69 FR 34935 |
18 AAC 53.020 | Required Oxygen Content | 10/31/1997 | 12/29/1999, 64 FR 72940 |
18 AAC 53.030 | Sampling, Testing and Oxygen Content Calculations | 10/31/1997 | 12/29/1999, 64 FR 72940 |
18 AAC 53.035 | Per Gallon Method of Compliance | 10/31/1997 | 12/29/1999, 64 FR 72940 |
18 AAC 53.040 | Averaging Oxygen Content Method of Compliance | 10/31/1997 | 12/29/1999, 64 FR 72940 |
18 AAC 53.045 | Oxygen Credits and Debits | 10/31/1997 | 12/29/1999, 64 FR 72940 |
18 AAC 53.060 | Oxygenated Gasoline Blending | 10/31/1997 | 12/29/1999, 64 FR 72940 |
18 AAC 53.070 | Registration and Permit | 10/31/1997 | 12/29/1999, 64 FR 72940 |
18 AAC 53.080 | Car Fees | 12/30/2000 | 1/08/2002, 67 FR 822 |
18 AAC 53.090 | Recordkeeping | 10/31/1997 | 12/29/1999, 64 FR 72940 |
18 AAC 53.100 | Reporting | 10/31/1997 | 12/29/1999, 64 FR 72940 |
18 AAC 53.105 | Product Transfer Document | 10/31/1997 | 12/29/1999, 64 FR 72940 |
18 AAC 53.120 | Inspection and Sampling | 10/31/1997 | 12/29/1999, 64 FR 72940 |
18 AAC 53.130 | Liability for Violation | 10/31/1997 | 12/29/1999, 64 FR 72940 |
18 AAC 53.140 | Defenses for Violation | 10/31/1997 | 12/29/1999, 64 FR 72940 |
18 AAC 53.150 | Temporary Variances | 10/31/1997 | 12/29/1999, 64 FR 72940 |
18 AAC 53.160 | Quality Assurance Program | 10/31/1997 | 12/29/1999, 64 FR 72940 |
18 AAC 53.170 | Attest Engagements | 10/31/1997 | 12/29/1999, 64 FR 72940 |
18 AAC 53.190 | Suspension and Reestablishment of Control Period | 2/20/2004 | 6/23/2004, 69 FR 34935 |
18 AAC 53—Article 9. General Provisions
18 AAC 53.990 | Definitions | 10/31/1997 | 12/29/1999, 64 FR 72940 |
Alaska Statutes
Title 45 Trade and Commerce, Chapter 45.45. Trade Practices
Sec. 45.45.400 | Prohibited Transfer of Used Cars | 6/25/1993 | 11/18/1998, 63 FR 63983 | Except (b).
Title 46 Water, Air, Energy, and Environmental Conservation, Chapter 46.14—Air Quality Control
Sec. 46.14.550 | Responsibilities of Owner and Operator; Agent for Service | 1/4/2013 | 9/19/2014, 79 FR 56268 |
Sec. 46.14.560 | Unavoidable Malfunctions and Emergencies | 6/25/1993 | 11/18/1998, 63 FR 63983 |
Sec. 46.14.990 | Definitions | 1/4/2013 | 9/19/2014, 79 FR 56268 | Except (1) through (3), (6), (7), (9) through (14), (19) through (26), and (28).
City and Borough Codes and Ordinances
Anchorage Municipal Code 21.85.030 | Improvement Requirements by Improvement Area | 1/16/1987 (city effective date) | 8/13/1993, 58 FR 43084 | Eagle River PM Plan—Contingency Plan.
Anchorage Municipal Code 21.45.080.W.7 | Paving | 9/24/1991 (city effective date) | 8/13/1993, 58 FR 43084 | Section W.7. Eagle River PM Plan—Contingency Plan.
Fairbanks North Star Borough Ordinance No. 2001-17 | Mandating a Fairbanks North Star Borough Motor Vehicle Plug-in Program | 4/12/2001 (borough adoption date) | 2/4/2002, 67 FR 5064 | Fairbanks Transportation Control Program—Carbon Monoxide.
Fairbanks North Star Borough Ordinance No. 2003-71 | An Ordinance amending the Carbon Monoxide Emergency Episode Prevention Plan including implementing a Woodstove Control Ordinance | 10/30/2003 (borough adoption date) | 7/27/2004, 69 FR 44601 | Fairbanks Carbon Monoxide Maintenance Plan.
Ordinance of the City and Borough of Juneau, No. 91-52 | An Ordinance amending the Wood smoke control code to lower the particulate count threshold, and to prohibit the burning in woodstoves of substances other than paper, cardboard and untreated wood | 1/6/1992 (city adoption date) | 3/24/1994, 59 FR 13884 | Mendenhall Valley PM Plan.
Ordinance of the City and Borough of Juneau, No. 91-53 | An Ordinance amending the wood smoke control fine schedule to increase the fines for violations of the wood smoke control code | 1/6/1992 (city adoption date) | 3/24/1994, 59 FR 13884 | Mendenhall Valley PM Plan.
Ordinance of the City and Borough of Juneau No. 93-01 | Setting boundaries for regrading and surfacing | 2/8/1993 (city adoption date) | 3/24/1994, 59 FR 13884 | Mendenhall Valley PM Plan.
Ordinance of the City and Borough of Juneau, No. 93-06 | Setting boundaries for regrading and surfacing | 4/5/1993 (city adoption date) | 3/24/1994, 59 FR 13884 | Mendenhall Valley PM Plan.
Ordinance of the City and Borough of Juneau, No. 93-39am | An Ordinance creating Local Improvement District No. 77 of the City and Borough, setting boundaries for drainage and paving of streets in the Mendenhall Valley | 11/17/1993 (city adoption date) | 3/24/1994, 59 FR 13884 | Mendenhall Valley PM Plan.
Anchorage Ordinance 2006-13 | An ordinance amending the Anchorage Municipal Code, Chapters 15.80 and 15.85 to comply with State I/M regulations and to comply with DMV Electronic Procedures | 2/14/2006 (city approval date) | 3/22/2010, 75 FR 13436 | Anchorage Transportation Control Program—Carbon Monoxide.
Ordinance of the City and Borough of Juneau, Serial No. 2008-28 | An Ordinance Amending the Woodsmoke Control Program Regarding Solid Fuel-Fired Burning Devices | 9/8/2008 (city adoption date) | 5/9/2013, 78 FR 27071 | Mendenhall Valley PM Limited Maintenance Plan.
Fairbanks North Star Borough Code
Chapter 21.28—PM 2.5 Air Quality Control Program
21.28.010 | Definitions | 3/2/2015 (borough effective date) | 9/8/2017, 82 FR 42457 |
21.28.020 | Borough listed appliances | 1/15/2016 (borough effective date) | 9/8/2017, 82 FR 42457 |
21.28.030 | Prohibited acts | 10/1/2016 (borough effective date) | 9/8/2017, 82 FR 42457 | except H and J.
21.28.050 | Forecasting exceedances and restrictions in the air quality control zone during an alert | 6/26/2015 (borough effective date) | 9/8/2017, 82 FR 42457 |
21.28.060 | No other adequate source of heat determination | 8/12/2016 (borough effective date) | 9/8/2017, 82 FR 42457 |

(d) EPA approved state source-specific requirements.

EPA-Approved Alaska Source-Specific Requirements
Name of source | Order/permit number | State effective date | EPA approval date | Explanations
None

(e) EPA approved nonregulatory provisions and quasi-regulatory measures.

EPA-Approved Alaska Nonregulatory Provisions and Quasi-Regulatory Measures
Name of SIP provision | Applicable geographic or nonattainment area | State submittal date | EPA approval date | Explanations
State of Alaska Air Quality Control Plan: Volume II. Analysis of Problems, Control Actions
Section I. Background
II.I.A. Introduction | Statewide | 1/8/1997 | 12/29/1999, 64 FR 72940
II.I.B. Air Quality Control Regions | Statewide | 1/8/1997 | 12/29/1999, 64 FR 72940
II.I.C. Attainment/nonattainment Designations | Statewide | 1/8/1997 | 12/29/1999, 64 FR 72940
II.I.D. Prevention of Significant Deterioration Designations | Statewide | 1/8/1997 | 12/29/1999, 64 FR 72940
II.I.E. New Source Review | Statewide | 1/8/1997 | 12/29/1999, 64 FR 72940 |
Section II. State Air Quality Control Program
II.II. State Air Quality Control Program | Statewide | 7/9/2012 | 10/22/2012, 77 FR 64425
Section III. Areawide Pollutant Control Program
II.III.A. Statewide Carbon Monoxide Control Program | Statewide | 6/5/2008 | 3/22/2010, 75 FR 13436
II.III.B. Anchorage Transportation Control Program | Anchorage | 1/4/2002 | 9/18/2002, 67 FR 58711
II.III.B.11. Anchorage Carbon Monoxide Maintenance Plan | Anchorage | 9/20/2011 | 3/3/2014, 79 FR 11707
II.III.B.12. Anchorage Second 10-year Carbon Monoxide Limited Maintenance Plan | Anchorage | 4/22/2013 | 3/3/2014, 79 FR 11707
II.III.C. Fairbanks Transportation Control Program | Fairbanks | 8/30/2001 | 2/4/2002, 67 FR 5064
II.III.C.11. Fairbanks Carbon Monoxide Redesignation and Maintenance Plan | Fairbanks | 9/15/2009 | 3/22/2010, 75 FR 13436
II.III.C.12. Fairbanks Second 10-year Carbon Monoxide Limited Maintenance Plan | Fairbanks | 4/22/2013 | 8/9/2013, 78 FR 48611
II.III.D. Particulate Matter | Statewide | 10/15/1991 | 8/13/1993, 58 FR 43084
II.III.D.2. Eagle River PM10 Control Plan | Eagle River | 10/15/1991 | 8/13/1993, 58 FR 43084
II.III.D.2.a. Eagle River PM10 Limited Maintenance Plan | Eagle River | 9/29/2010 | 1/7/2013, 78 FR 900
II.III.D.3. Mendenhall Valley PM10 Control Plan | Mendenhall Valley | 6/22/1993 | 3/24/1994, 59 FR 13884
II.III.D.3.a. Mendenhall Valley PM10 Limited Maintenance Plan | Mendenhall Valley | 5/14/2009 | 5/9/2013, 78 FR 27071
II.III.D.4. Interstate Transport of Particulate Matter | Statewide | 2/7/2008 | 10/15/2008, 73 FR 60957
II.III.D.5. Fairbanks North Star Borough PM2.5 Control Plan | Fairbanks North Star Borough | 11/23/2016 | 9/8/2017, 82 FR 42457 | Fairbanks North Star Borough PM2.5 Moderate Area Plan.
II.III.E. Ice Fog | Statewide | 1/18/1980 | 7/5/1983, 48 FR 30623
II.III.F. Open Burning | Statewide | 4/4/2011 | 2/14/2013, 78 FR 10546
II.III.F.1. In Situ Burning Guidelines for Alaska | Statewide | 4/4/2011 | 2/14/2013, 78 FR 10546 | Revision 1, August 2008.
II.III.G. Wood Smoke Pollution Control | Statewide | 11/15/1983 | 4/24/1984, 49 FR 17497
II.III.H. Lead Pollution Control | Statewide | 11/15/1983 | 1/3/1984, 49 FR 67
II.III.I. Transportation Conformity | Statewide | 4/17/2015 | 9/8/2015, 80 FR 53735
II.III.I.1. Transportation Conformity Supplement | Statewide | 7/29/2015 | 9/8/2015, 80 FR 53735 | Clarification re: access to public records: AS 40.25.110, AS 40.25.115, and 2 AAC 96.
II.III.J. General Conformity | Statewide | 12/05/1994 | 9/27/1995, 60 FR 49765
II.III.K. Area Wide Pollutant Control Program for Regional Haze | Statewide | 4/4/2011 | 2/14/2013, 78 FR 10546
Section IV. Point Source Control Program
II.IV.A. Summary | Statewide | 11/15/1983 | 4/24/1984, 49 FR 17497
II.IV.B. State Air Quality Regulations | Statewide | 11/15/1983 | 4/24/1984, 49 FR 17497
II.IV.C. Local Programs | Statewide | 11/15/1983 | 4/24/1984, 49 FR 17497
II.IV.D. Description of Source Categories and Pollutants | Statewide | 11/15/1983 | 4/24/1984, 49 FR 17497
II.IV.E. Point Source Control | Statewide | 11/15/1983 | 4/24/1984, 49 FR 17497
II.IV.F. Facility Review Procedures | Statewide | 9/12/1988 | 7/31/1989, 54 FR 31522
II.IV.G. Application Review and Permit Development | Statewide | 11/15/1983 | 4/24/1984, 49 FR 17497
II.IV.H. Permit Issuance Requirements | Statewide | 11/15/1983 | 4/24/1984, 49 FR 17497
Section V. Ambient Air Monitoring
II.V.A. Purpose | Statewide | 1/18/1980 | 4/15/1981, 46 FR 21994 |
II.V.B. Completed Air Monitoring Projects | Statewide | 1/18/1980 | 4/15/1981, 46 FR 21994 |
II.V.C. Air Monitoring Network | Statewide | 1/18/1980; 7/11/1994 | 4/15/1981, 46 FR 21994; 4/5/1995, 60 FR 17237 |
II.V.E. Annual Review | Statewide | 1/18/1980 | 4/15/1981, 46 FR 21994 |
State of Alaska Air Quality Control Plan: Volume III. Appendices
Section II. State Air Quality Control Program
III.II.A. State Air Statutes | Statewide | 12/11/2006 | 3/22/2010, 75 FR 13436 | Except 46.03.170.
III.II.A.1. State Attorney General Opinions on Legal Authority | Statewide | 12/11/2006 | 3/22/2010, 75 FR 13436
III.II.B. Municipality of Anchorage and ADEC Agreements | Anchorage | 4/22/2013 | 3/3/2014, 79 FR 11707
III.II.C. Fairbanks North Star Borough and ADEC Agreements | Fairbanks | 12/11/2006 | 3/22/2010, 75 FR 13436
III.II.D. CAA Section 110 Infrastructure Certification Documentation and Supporting Documents | Statewide | 5/12/2015 | 5/12/2017, 82 FR 22081
III.II.D.1. Attachment 1—Public Official Financial Disclosure (2 AAC 50.010 through 2 AAC 50.200) | Statewide | 7/9/2012 | 10/22/2012, 77 FR 64425 | Approves for purposes of CAA section 128.
III.II.D.2. Attachment 2—Executive Branch Code of Ethics (9 AAC 52.010 through 9 AAC 52.990) | Statewide | 7/9/2012 | 10/22/2012, 77 FR 64425 | Approves for purposes of CAA section 128.
Section III. Areawide Pollutant Control Program
III.III.A. I/M Program Manual | Statewide | 6/5/2008 | 3/22/2010, 75 FR 13436
III.III.B. Municipality of Anchorage | Anchorage | 4/22/2013 | 3/3/2014, 79 FR 11707
III.III.C. Fairbanks | Fairbanks | 4/22/2013 | 8/9/2013, 78 FR 48611
III.III.D. Particulate Matter | Statewide | 10/15/1991 | 8/13/1993, 58 FR 43084
III.III.D.2. Eagle River PM10 Control Plan | Eagle River | 9/29/2010 | 1/7/2013, 78 FR 900
III.III.D.3. Control Plan for the Mendenhall Valley of Juneau | Mendenhall Valley | 5/14/2009 | 5/9/2013, 78 FR 27071
III.III.D.5. Fairbanks North Star Borough PM2.5 Control Plan | Fairbanks North Star Borough | 11/23/2016 | 9/8/2017, 82 FR 42457 | Only with respect to the Fairbanks North Star Borough PM2.5 Moderate Area Plan.
III.III.G. Ordinance of the City and Borough of Juneau | Juneau | 11/15/1983 | 4/24/1984, 49 FR 17497
III.III.H. Support Documents for Lead Plan | Statewide | 11/15/1983 | 1/3/1984, 49 FR 67
III.III.K. Area wide Pollutant Control Program for Regional Haze | Statewide | 4/4/2011 | 2/14/2013, 78 FR 10546
Section IV. Point Source Control Program
III.IV. Point Source Control Program | Statewide | 11/15/1983 | 4/24/1984, 49 FR 17497
III.IV.1. PSD Area Classification and Reclassification | Statewide | 11/15/1983 | 4/24/1984, 49 FR 17497
III.IV.2. Compliance Assurance | Statewide | 11/15/1983 | 4/24/1984, 49 FR 17497
III.IV.3. Testing Procedures | Statewide | 11/15/1983 | 4/24/1984, 49 FR 17497
Section V. Ambient Air Monitoring
III.V. Ambient Air Monitoring | Statewide | 11/15/1983 | 4/24/1984, 49 FR 17497
Section VI. Small Business Assistance Program
III.VI. Small Business Assistance Program | Statewide | 4/18/1994 | 9/5/1995, 60 FR 46024
Infrastructure and Interstate Transport
Interstate Transport Requirements—1997 Ozone and 1997 PM2.5 NAAQS | Statewide | 2/7/2008 | 10/15/2008, 73 FR 60957 | Approves SIP for purposes of CAA section 110(a)(2)(D)(i) for the 1997 Ozone and 1997 PM2.5 NAAQS.
Infrastructure Requirements—1997 Ozone NAAQS | Statewide | 7/9/2012 | 10/22/2012, 77 FR 64425 | Approves SIP for purposes of CAA sections 110(a)(2)(A), (B), (C), (D)(ii), (E), (F), (G), (H), (J), (K), (L), and (M) for the 1997 Ozone NAAQS.
Interstate Transport Requirements—2008 Ozone and 2006 PM2.5 NAAQS | Statewide | 3/29/2011 | 8/4/2014, 79 FR 45103 | Approves SIP for purposes of CAA section 110(a)(2)(D)(i)(I) for the 2008 Ozone and 2006 PM2.5 NAAQS.
Interstate Transport Requirements—2008 Lead NAAQS | Statewide | 7/9/2012 | 8/4/2014, 79 FR 45103 | Approves SIP for purposes of CAA section 110(a)(2)(D)(i)(I) for the 2008 Lead NAAQS.
Infrastructure Requirements—1997 PM2.5 NAAQS | Statewide | 7/9/2012 | 11/10/2014, 79 FR 66651 | Approves SIP for purposes of CAA section 110(a)(2)(A), (B), (C), (D)(ii), (E), (F), (H), (J), (K), (L), and (M) for the 1997 PM2.5 NAAQS.
Infrastructure Requirements—2006 PM2.5 NAAQS | Statewide | 7/9/2012, 3/29/2011 | 11/10/2014, 79 FR 66651 | Approves SIP for purposes of CAA section 110(a)(2)(A), (B), (C), (D)(i)(II), (D)(ii), (E), (F), (H), (J), (K), (L), and (M) for the 2006 PM2.5 NAAQS.
Infrastructure Requirements—2008 Ozone NAAQS | Statewide | 7/9/2012, 3/29/2011 | 11/10/2014, 79 FR 66651 | Approves SIP for purposes of CAA section 110(a)(2)(A), (B), (C), (D)(i)(II), (D)(ii), (E), (F), (G), (H), (J), (K), (L), and (M) for the 2008 Ozone NAAQS.
Infrastructure Requirements—2010 NO2 NAAQS | Statewide | 5/12/2015 | 5/12/2017, 82 FR 22081 | Approves SIP for purposes of CAA section 110(a)(2)(A), (B), (C), (D)(i)(II), (D)(ii), (E), (F), (G), (H), (J), (K), (L), and (M) for the 2010 NO2 NAAQS.
Infrastructure Requirements—2010 SO2 NAAQS | Statewide | 5/12/2015 | 5/12/2017, 82 FR 22081 | Approves SIP for purposes of CAA section 110(a)(2)(A), (B), (C), (D)(i)(II), (D)(ii), (E), (F), (G), (H), (J), (K), (L), and (M) for the 2010 SO2 NAAQS.
Regulations Approved but not Incorporated by Reference
18 AAC 50.076(g)(11) Solid Fuel-fired Heating Device Fuel Requirements; Registration of Commercial Wood Sellers | Statewide | 11/26/2016 | 9/8/2017, 82 FR 42457
21.28.030.J Prohibited Acts. Penalties | Fairbanks North Star Borough | 10/1/2016 (borough effective date) | 9/8/2017, 82 FR 42457 | FNSB Code Chapter 21.28 PM2.5 Air Quality Control Program.
21.28.040 Enhanced voluntary removal, replacement and repair program | Fairbanks North Star Borough | 1/15/2016 (borough effective date) | 9/8/2017, 82 FR 42457 | FNSB Code Chapter 21.28 PM2.5 Air Quality Control Program.
21.28.070 Voluntary burn cessation program | Fairbanks North Star Borough | 4/24/2015 (borough effective date) | 9/8/2017, 82 FR 42457 | FNSB Code Chapter 21.28 PM2.5 Air Quality Control Program.

[FR Doc. 2017-26082 Filed 12-7-17; 8:45 am]

BILLING CODE 6560-50-P